DEPARTMENT OF TRANSPORTATION

Federal Aviation Administration

14 CFR Part 39

[Docket No. FAA-2007-28354; Directorate Identifier 2006-NM-245-AD; Amendment 39-15086; AD 2007-12-08]

RIN 2120-AA64

Airworthiness Directives; Airbus Model A340-211, -212, -311, and -312 Airplanes

AGENCY: Federal Aviation Administration (FAA), Department of Transportation (DOT).

ACTION: Final rule; request for comments.

SUMMARY: The FAA is superseding an existing airworthiness directive (AD) that applies to certain Airbus Model A340-211, -212, -311, and -312 airplanes. The existing AD currently requires an initial rotating probe inspection and initial and repetitive ultrasonic inspections for discrepancies of the first fastener hole of the horizontal flange of the keel beam on previously modified airplanes, installation of new fasteners, and corrective action if necessary. This AD retains the actions required by the existing AD and adds new rotating probe inspections and a terminating action for the repetitive inspections of the existing AD. This AD results from a report that certain inspections, done before accomplishing the modification of the lower keel beam fitting and forward lower shell connection, revealed cracking that was outside the modification limits specified in the service bulletin; the cracking was repaired by installing a titanium doubler. We are issuing this AD to prevent discrepancies of the fastener holes of the horizontal flange of the keel beam, which could result in reduced structural integrity of the fuselage.

DATES: This AD becomes effective June 21, 2007.

The Director of the Federal Register approved the incorporation by reference of certain publications listed in the AD as of June 21, 2007.

On October 27, 2005 (70 FR 59233, October 12, 2005), the Director of the Federal Register approved the incorporation by reference of Airbus Service Bulletin A340-57-4087, including Appendix 01, dated November 21, 2003.

We must receive comments on this AD by August 6, 2007.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Discussion

On September 28, 2005, the FAA issued AD 2005-20-27, amendment 39-14324 (70 FR 59233, October 12, 2005). That AD applies to certain Airbus Model A340-211, -212, -311, and -312 airplanes. That AD requires an initial rotating probe inspection and initial and repetitive ultrasonic inspections for discrepancies of the first fastener hole of the horizontal flange of the keel beam on previously modified airplanes, installation of new fasteners, and corrective action if necessary. That AD resulted from a report that certain inspections done before accomplishing the modification of the lower keel beam fitting and forward lower shell connection revealed cracking that was outside the modification limits specified in the service bulletin; the cracking was repaired by installing a titanium doubler. The actions specified in that AD are intended to find and fix discrepancies of the fastener holes of the horizontal flange of the keel beam, which could result in reduced structural integrity of the fuselage.

Actions Since AD Was Issued

Since we issued that AD, further manufacturer analysis of the keel beam/center wing box (CWB) interface determined that cold working of additional fastener holes and modifications of the CWB lower panel/keel beam interface was needed to adequately ensure structural integrity of the airplane. These modifications would provide terminating action for the repetitive inspections required by the existing AD.

Relevant Service Information

Airbus has issued Service Bulletin A340-57-4099, dated March 27, 2006. The service bulletin describes procedures for disconnecting one fastener from the keel beam/bottom skin panel junction by reaming a hole in the keel beam and oversizing fastener 5 of the CWB lower panel, and for cold-working two adjacent fastener holes of the CWB lower panel to install interference fit fasteners. These modifications include rotating probe inspections, if applicable. Accomplishing the actions specified in the service information is intended to adequately address the unsafe condition.

We have also reviewed Airbus Service Bulletin A340-57-4087, Revision 01, including Appendix 01, dated February 15, 2005. (Service Bulletin A340-57-4087, including Appendix 01, dated November 21, 2003, was cited as the appropriate source of service information in AD 2005-20-27.) Revision 01 is technically the same as the original issue; revisions were made only to the effectivity and certain descriptive paragraphs.

The European Aviation Safety Agency (EASA), which is the airworthiness authority for the European Union, mandated the service information and issued airworthiness directive 2006-0314, dated October 13, 2006, to ensure the continued airworthiness of these airplanes in the European Union.

FAA's Determination and Requirements of This AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States. Therefore, we are issuing this AD to supersede AD 2005-20-27. This new AD retains the requirements of the existing AD. This AD also requires accomplishing the actions specified in Service Bulletin A340-57-4099, described previously, except as discussed under “Difference Between AD and Service Bulletin A340-57-4099.”

Difference Between AD and Service Bulletin A340-57-4099

Service Bulletin A340-57-4099 specifies contacting the manufacturer for disposition of certain repair conditions; however, this AD would require the repair of those conditions to be accomplished per a method approved by either the FAA or the EASA (or its delegated agent). In light of the type of repair that would be required to address the identified unsafe condition, and in consonance with existing bilateral airworthiness agreements, the FAA has determined that, for this AD, a repair approved by either the FAA or the EASA (or its delegated agent) would be acceptable for compliance with the requirements of paragraph (j) of this AD.

Explanation of Change Made to Requirements of Existing AD

Paragraph (h) of the existing AD specifies making repairs using a method approved by the FAA or the Direction Generale De L'Aviation Civile (DGAC) (or its delegated agent). The European Aviation Safety Agency (EASA) has assumed responsibility for the airplane models that would be subject to this AD. Therefore, we have revised paragraph (h) of this AD to specify making repairs using a method approved by either the FAA, the DGAC (or its delegated agent), or the EASA (or its delegated agent).

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future. For any affected airplane imported and placed on the U.S. Register in the future, the estimated costs to accomplish the specified actions, at an average labor rate of $80 per work hour, are as follows:

For the actions required by AD 2005-20-27 and retained by this AD: It takes between 3 and 8 work hours per airplane for the initial inspections and about 2 work hours per airplane for each repetitive inspection. Parts cost $190 for each kit; two kits are required for installing the new fasteners. Based on these figures, the estimated cost of the initial actions is between $620 and $1,020 per airplane; and the estimated cost of the repeat inspection is $160 per airplane, per inspection cycle.

For the new actions required by this AD: It takes between 14 and 29 work hours per airplane to do the inspections and modifications. Parts cost between $1,250 and $1,680 per kit. Based on these figures, the estimated cost of these actions is between $2,370 and $4,000 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2007-28354; Directorate Identifier 2006-NM-245-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14324 (70 FR 59233, October 12, 2005) and adding the following new airworthiness directive (AD):

2007-12-08 Airbus: Amendment 39-15086. Docket No. FAA-2007-28354; Directorate Identifier 2006-NM-245-AD.

Effective Date

(a) This AD becomes effective June 21, 2007.

Affected ADs

(b) This AD supersedes AD 2005-20-27.

Applicability

(c) This AD applies to Airbus Model A340-211, -212, -311, and -312 airplanes, certificated in any category; serial numbers 0006, 0007 (right-hand side of the airplane only), 0008 (left-hand side only), 0013, 0020, 0024 (left-hand side only), 0027 through 0029 inclusive, 0031, 0033, 0035, 0038 through 0040 inclusive, 0043, 0047, 0049, and 0052.

Unsafe Condition

(d) This AD results from a report that certain inspections, done before accomplishing the modification of the lower keel beam fitting and forward lower shell connection, revealed cracking that was outside the modification limits specified in the service bulletin; the cracking was repaired by installing a titanium doubler. We are issuing this AD to prevent discrepancies of the fastener holes of the horizontal flange of the keel beam, which could result in reduced structural integrity of the fuselage.

Compliance

(e) You are responsible for having the actions required by this AD performed within the compliance times specified, unless the actions have already been done.

Restatement of Requirements of AD 2005-20-27

Initial/Repetitive Nondestructive Test Inspections/Repair

(f) Within 5,420 flight cycles or 26,200 flight hours after accomplishing Airbus Modification 43577, whichever is first: Perform an initial rotating probe inspection for discrepancies of the first fastener hole of the horizontal flange of the keel beam by doing all the actions in accordance with the Accomplishment Instructions of Airbus Service Bulletin A340-57-4087, dated November 21, 2003; or Revision 01, dated February 15, 2005. If no cracking is found, before further flight, inspect for correct fastener diameter tolerance; if the fastener diameter is out of tolerance, before further flight, ream to oversize the fastener holes and install oversize fasteners in accordance with the Accomplishment Instructions of the service bulletin. Accomplishing the modifications specified in paragraph (i) of this AD ends the requirement for these inspections.

(g) If no cracking is found during any inspection required by paragraph (f) of this AD: Within 1,480 flight cycles or 7,400 flight hours, whichever is first, after accomplishing the inspection, perform an initial ultrasonic inspection for discrepancies of the first fastener hole of the horizontal flange of the keel beam by doing all the actions in accordance with the Accomplishment Instructions of Airbus Service Bulletin A340-57-4087, dated November 21, 2003; or Revision 01, dated February 15, 2005. If no cracking is found, repeat the ultrasonic inspection thereafter at intervals not to exceed 1,480 flight cycles or 7,400 flight hours, whichever is first; until the modifications required by paragraph (i) of this AD are accomplished.

Repair Per the FAA; the Direction Generale De L'Aviation Civile (DGAC); or the European Aviation Safety Agency (EASA)

(h) If any cracking is found during any inspection required by this AD: Before further flight, repair per a method approved by the Manager, International Branch, ANM-116, Transport Airplane Directorate, FAA; the DGAC (or its delegated agent); or the EASA (or its delegated agent). Within 1,480 flight cycles or 7,400 flight hours, whichever is first, after repair of any cracking, perform an ultrasonic inspection as required by paragraph (g) of this AD. Repeat the ultrasonic inspection thereafter at intervals not to exceed 1,480 flight cycles or 7,400 flight hours, whichever is first; until the actions required by paragraph (i) of this AD are accomplished.

New Requirements of This AD

Modifications

(i) Within 118 months after the effective date of this AD: Disconnect the keel beam from the center wing box panel at fastener hole 5, do applicable rotating probe inspections, and do cold work and install interference fit fasteners in two adjacent fastener holes of the center wing box panel; in accordance with the Accomplishment Instructions of Airbus Service Bulletin A340-57-4099, dated March 27, 2006, except as required by paragraph (j) of this AD. Accomplishing these actions terminates the inspection requirements of paragraphs (f), (g), and (h) of this AD.

Repair

(j) If any crack is found during any action required by paragraph (i) of this AD and Service Bulletin A340-57-4099 specifies to contact Airbus: Before further flight, repair per a method approved by the Manager, International Branch, ANM-116; the DGAC (or its delegated agent); or the EASA (or its delegated agent).

No Reporting Required

(k) Although Airbus Service Bulletin A340-57-4087, dated November 21, 2003; and Revision 01, dated February 15, 2005, specify submitting an inspection report to the manufacturer, this AD does not include that requirement.

Alternative Methods of Compliance (AMOCs)

(l)(1) The Manager, International Branch, ANM-116, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(m) The European Aviation Safety Agency airworthiness directive 2006-0314, dated October 13, 2006, also addresses the subject of this AD.

Material Incorporated by Reference

(n) You must use Airbus Service Bulletin A340-57-4099, dated March 27, 2006; Airbus Service Bulletin A340-57-4087, including Appendix 01, dated November 21, 2003, and Airbus Service Bulletin A340-57-4087, Revision 01, excluding Appendix 01, dated February 15, 2005; as applicable; to perform the actions that are required by this AD, unless the AD specifies otherwise.

(1) The Director of the Federal Register approved the incorporation by reference of Airbus Service Bulletin A340-57-4099, dated March 27, 2006; and Airbus Service Bulletin A340-57-4087, Revision 01, excluding Appendix 01, dated February 15, 2005; in accordance with 5 U.S.C. 552(a) and 1 CFR part 51.

(2) On October 27, 2005 (70 FR 59233, October 12, 2005), the Director of the Federal Register approved the incorporation by reference of Airbus Service Bulletin A340-57-4087, including Appendix 01, dated November 21, 2003.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on May 25, 2007.
Ali Bahrami,
Manager, Transport Airplane Directorate, Aircraft Certification Service.

[FR Doc. E7-10754 Filed 6-5-07; 8:45 am]

BILLING CODE 4910-13-P